DEPARTMENT OF EDUCATION

Credit Enhancement for Charter School Facilities Program

AGENCY: Office of Innovation and Improvement, Department of Education.

ACTION: Notice.

Catalog of Federal Domestic Assistance Number: 84.354A.

SUMMARY: The Secretary intends to use the existing slate of applicants developed for the Credit Enhancement for Charter School Facilities Program in Fiscal Year (FY) 2011 to make new grant awards in FY 2013. The Secretary takes this action because a significant number of high-quality applications remain on the grant slate and, given the limited funding available for the program in FY 2013 relative to the typical grant amount, the Secretary believes the benefits of running a new competition are outweighed by the cost of spending program dollars on peer review.

FOR FURTHER INFORMATION CONTACT: Kristin Lundholm, U.S. Department of Education, 400 Maryland Ave SW., Room 4W221, Washington, DC 20202. Telephone: 202-205-4352 or by email: kristin.lundholm@ed.gov.

If you use a telecommunications device for the deaf (TDD) or a text telephone (TTY), you may call the Federal Relay Service (FRS), toll free, at 1-800-877-8339.

SUPPLEMENTARY INFORMATION:

Background

On March 11, 2011, we published a notice in the Federal Register (76 FR 13365) inviting applications for new awards for FY 2011 under the Credit Enhancement for Charter School Facilities Program. This notice indicated that, contingent upon the availability of funds and the quality of applications, we may make additional awards later in FY 2011 and FY 2012 from the list of unfunded applicants from the FY 2011 competition.

We received a significant number of applications for grants under the Credit Enhancement for Charter School Facilities Program in FY 2011, many of which received very high scores, and made one initial award in FY 2011 and two additional awards in FY 2012. Because such a large number of high-quality applications were received, many applications that peer reviewers assigned high scores did not receive funding in FY 2011 or FY 2012.

Based on historical data, the funding available for this program in FY 2013 is comparable to the size of approximately one award under this program. In order to conserve funding that would have been required for a peer review of applications submitted under a new competition, we intend to select FY 2013 grantees from the existing slate of applicants.

Program Authority: 20 U.S.C. 223-7223j.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: April 12, 2013.
James H. Shelton, III,
Assistant Deputy Secretary for Innovation and Improvement.

[FR Doc. 2013-09056 Filed 4-16-13; 8:45 am]

BILLING CODE 4000-01-P